DEPARTMENT OF THE INTERIOR

National Park Service

[NPS-WASO-NRNHL-0412-101117; 2200-3200-665]

National Register of Historic Places; Notification of Pending Nominations and Related Actions

Nominations for the following properties being considered for listing or related actions in the National Register were received by the National Park Service before April 14, 2012. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by May 25, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Maricopa County

Moeur, Gov. Benjamin B., House, 34 E. 7th St., Tempe, 12000295

Pima County

Ghost Ranch Lodge, 801 W. Miracle Mile Rd., Tucson, 12000296

DISTRICT OF COLUMBIA

District of Columbia

Main Sewerage Pumping Station, District of Columbia, 125 O St. SE., Washington, 12000297

FLORIDA

Bay County

Camp Helen Historic District, 23937 Panama City Beach Pkwy., Panama City Beach, 12000298

Escambia County

Hver—Knowles Planing Mill Chimney, Jct. of Scenic Bluffs Hwy. & Langley Ave., Pensacola, 12000299

Monroe County

Veterans of Foreign Wars Walter R. Mickens Post 6021 and William Weech American Legion Post 168, 803 Emma St., Key West, 12000300

KANSAS

Riley County

Bethel A.M.E. Church, (African American Resources in Manhattan, Kansas MPS) 401 Yuma St., Manhattan, 12000301

Second Baptist Church, (African American Resources in Manhattan, Kansas MPS) 831 Yuma St., Manhattan, 12000302

Sedgwick County

Wichita Veterans Administration Hospital, (United States Second Generation Veterans Hospitals MPS) 5500 E. Kellogg Ave., Wichita, 12000303

MASSACHUSETTS

Bristol County

Manomet Mills, 194-194R, 200 Riverside Ave., New Bedford, 12000304

MICHIGAN

Keweenaw County

Copper Harbor Light Station, 9879 Woodland Rd. (Grant Township), Copper Harbor, 12000305

Eagle Harbor Coast Guard Station Boathouse, 9282 Marina Rd., Eagle Harbor Rd., 12000306

Macomb County

Warren Township District No. 4 School, 27900 Bunert Rd., Warren, 12000308

Marquette County

St. Peter Cathedral, 311 W. Baraga Ave., Marquette, 12000307

NEW JERSEY

Mercer County

U.S. Post Office and Courthouse, 402 E. State St., Trenton, 12000309

NEW YORK

Livingston County

Caledonia Fish Hatchery, 16 North St., Caledonia, 12000310

Rockland County

Seaman—Knapp House, 35 Ladentown Rd., Pomona, 12000311

Suffolk County

Northport Veterans Administration Hospital Historic District, (United States Second Generation Veterans Hospitals MPS) 79 Middleville Rd., Northport, 12000312

NORTH CAROLINA

Davidson County

Lexington Memorial Hospital, 111 North Carolina Ave., Lexington, 12000313

VERMONT

Chittenden County

Duplex at 22—26 Johnson St., (Burlington, Vermont MPS) 22—26 Johnson St., Burlington, 12000292

Fitzgerald, William, Block, (Burlington, Vermont MPS) 57-63 N. Champlain St., Burlington, 12000293

WISCONSIN

Door County

Murphy Farms Number 1, 7195, 7199, 7203, 7207, 7212, & 7213 Horseshoe Bay Rd., Egg Harbor, 12000314

Marathon County

United States Post Office and Court House, 317 1st St., Wausau, 12000294

WYOMING

Johnson County

Buffalo Downtown Historic District, Main St., Buffalo, 12000315

[FR Doc. 2012-10739 Filed 5-3-12; 8:45 am]

BILLING CODE 4312-51-P